DEPARTMENT OF TRANSPORTATION

Federal Aviation Administration

Proposed Advisory Circular (AC) 23-XX-32, Installation of Terrain Awareness and Warning System (TAWS) Approved Under TSO-C151a for Part 23 Airplanes

AGENCY: Federal Aviation Administration, DOT.

ACTION: Notice of availability of proposed Advisory Circular (AC) AC 23-XX-32 and request for comments.

SUMMARY: This notice announces the availability of and requests comments regarding proposed Advisory Circular (AC) 23-XX-32, Installation of Terrain Awareness and Warning System (TAWS) Approved Under TSO-C151a for Part 23 Airplanes. This AC establishes an acceptable means, but not the only means, of obtaining FAA airworthiness approval for the installation of a TAWS that has been approved under Technical Standard Order (TSO)-C151a, Terrain Awareness and Warning System, in a Part 23 airplane.

DATES: Comments must be received on or before March 20, 2000. There will be no extensions for late comments.

ADDRESSES: Send both a hard copy and an electronic copy of all comments on the proposed AC to the Federal Aviation Administration, Attention: Pat Nininger (pat.nininger@faa.gov), Regulations and Policy Branch, ACE-111, Small Airplane Directorate, Federal Aviation Administration, 901 Locust, Room 301, Kansas City, Missouri 64106, telephone number (816) 329-4129, or facsimile (816) 329-4090.

FOR FURTHER INFORMATION CONTACT: Ervin Dvorak, Aerospace Engineer, Regulations and Policy Branch, ACE-111, Small Airplane Directorate, Federal Aviation Administration, 901 Locust, Room 301, Kansas City, Missouri 64106, telephone number (816) 329-4123.

SUPPLEMENTARY INFORMATION:

Comments Invited

Any person may obtain a copy of the proposed AC by contacting the person named above under ADDRESSES or the AC should be available within a few days on the internet at http://www.faa.gov/avr/air/airhome.htm. We invite interested persons to comment on the proposed AC by submitting comments to the address specified above. The FAA will consider all comments received on or before the closing date before issuing the AC. Comments may be examined at the Small Airplane Directorate, Federal Aviation Administration, 901 Locust, Room 301, Kansas City, Missouri 64106, between 7:30 a.m. and 4:00 p.m. weekdays, except Federal holidays.

Background

On November 29, 1999, the FAA issued TSO-C151a. TSO-C151a prescribes the minimum design standards that a TAWS must meet to be identified with the TSO-C151a marking. For further in-depth information concerning the TAWS' capabilities, refer to TSO-C151a.

The FAA's TSO process is a means of obtaining FAA design and performance approval for an appliance, system, or product. However, the TSO does not provide procedures for installation approval or procedures for design or implementation of an installation. With future rulemaking and heightened interest by manufacturers and operators to equip Part 23 airplanes with TAWS systems that are compliant with TSO-C151a, the FAA has recognized the need to establish guidance material for the design and test requirements for the installation of such systems. This AC has been developed as the means for providing such guidance for Part 23 airplanes.

Issued in Kansas City, Missouri, on January 19, 2000.
Michael Gallagher,
Manager, Small Airplane Directorate.

[FR Doc. 00-2247 Filed 2-1-00; 8:45 am]

BILLING CODE 4910-13-U